DEPARTMENT OF AGRICULTURE

Forest Service

Conejos Peak Ranger District, Rio Grande National Forest; Colorado; CP District-wide Salvage Project

AGENCY: Forest Service, USDA.

ACTION: Notice of intent to prepare an environmental impact statement.

SUMMARY: The Conejos Peak Ranger District, Rio Grande National Forest, proposes to salvage timber stands killed or infested by spruce beetles; reduce fuel loading adjacent to private lands; and regenerate forested acres, as needed, to move toward the long-term desired conditions described in the Forest Plan.

DATES: Comments concerning the scope of the analysis must be received by March 31, 2016.

ADDRESSES: Written comments concerning this notice should be addressed to Andrea Jones, District Ranger; Conejos Peak Ranger District; 15571 CR T.5; La Jara, CO; 81140. Comments may also be sent via email to comments-rocky-mountain-rio-grande-conejos-peak@fs.fed.us, or via facsimile to 719-274-6301, with subject `CP District-wide Salvage Project.'

All comments, including names and addresses when provided, are placed in the record and are available for public inspection and copying. The public may inspect comments received at the Conejos Peak Ranger District office, address listed above. Visitors are encouraged to call ahead to 719-274-8971 to facilitate document access.

FOR FURTHER INFORMATION CONTACT: Michael Tooley, Interdisciplinary Team Leader, telephone: (719) 274-8971 or visit the Forest Web site: http://www.fs.usda.gov/projects/riogrande/landmanagement/projects.

Individuals who use telecommunication devices for the deaf (TDD) may call the Federal Information Relay Service (FIRS) at 1-800-877-8339 between 8:00 a.m. and 8:00 p.m., Eastern Standard Time, Monday through Friday.

SUPPLEMENTARY INFORMATION:

Estimated Dates

The draft environmental impact statement is expected September 2017 and the final environmental impact statement is expected December 2017.

Purpose and Need for Action

Extensive spruce beetle mortality has occurred across the Conejos Peak Ranger District since 2002, affecting over 67,000 acres to date. As a result, existing conditions within certain Management Area Prescriptions (MAPs) have departed from desired conditions described in the Revised Land and Resource Management Plan (Forest Plan). Management emphasis is on wood production within some MAPs, and there is express intent to evaluate insect and disease outbreaks against the potential for loss of commercial forest resources, with an emphasis on protecting the commercial resources. Within other MAPs, vegetation composition and structure are managed to meet specific objectives for the area (e.g. recreation), and vegetation management treatments are implemented to accomplish those objectives or contribute to user safety. Within yet other MAPs, the plant communities may be managed in a range of successional stages to achieve biological diversity, and vegetation management treatments are allowed with resource constraints.

These desired conditions for the MAPs tie to overarching Forestwide Desired Conditions and Objectives. One overarching Desired Condition is to supply wood products while providing for the biological diversity of forested areas. An associated Objective provides an emphasis on long-term sustainable production of resources for economies, communities, and people. Another overarching Desired Condition is that fuel profiles be consistent with land uses and estimates of historic fire regimes. An associated Objective provides for using appropriate vegetative-management methods to modify unacceptable fuel profiles, contributing to the protection of human life, property, and resources needed to support long-term industries, with firefighter safety being paramount.

This disparity between existing and desired conditions creates a need to utilize available dead and dying trees in a timely manner to meet multiple-use mandates and provide for the protection of firefighters, users, communities, and private resources. The purpose of this project is to provide an adaptive decision framework for responding to spruce beetle mortality with salvage and hazardous fuel treatment projects in a timely and cost-effective manner, while providing for site-specific protection of biological diversity and other resource management objectives.

Proposed Action

The Conejos Peak Ranger District of the Rio Grande National Forest proposes to salvage dead and dying spruce from suitable areas across the district, as well as modify forest fuels adjacent to private property and administrative sites within areas affected by spruce beetle mortality. Salvage harvest activities would occur on up to 17,000 acres across the district, on lands determined by the Forest Plan as appropriate for timber harvest. Hazardous fuel treatment activities would occur on up to 1,000 acres of treatment area, on lands determined by the same plan as appropriate for pre-commercial hand-thinning operations. Activities would begin in the summer of 2018 and continue for 10-15 years.

Activities associated with spruce salvage harvest would include: (1) Commercial logging and log hauling operations; (2) National Forest System Road maintenance and reconstruction; (3) Re-opening old non-system roads, followed by rehabilitation; (4) Temporary road construction and rehabilitation; (5) Areas identified for public and commercial firewood gathering; (6) Planting of native conifer seedlings as needed to meet future forest objectives.

Activities associated with hazardous fuel treatments within spruce mortality zones would include: (1) Pre-commercial thinning by chainsaw within 400 feet of private boundary or 200 feet of administrative sites to create defensible space; (2) Hazard tree removal by chainsaw within 400 feet of private boundary or 200 feet of administrative sites; (3) Pruning of residual trees to lift crown base height; (4) Piling and burning or removal of activity-generated fuels within timber sale or pre-commercial thinning areas.

The proposed action also includes development of an implementation checklist for later-stage analysis. The developed checklist would tier to this early-stage decision and allow focus on compliance alone in relation to (1) project decision, (2) Forest Plan, statute, and regulation, and (3) reporting and notification requirements.

Responsible Official

Conejos Peak District Ranger at 15571 County Road T.5; La Jara, CO; 81140

Nature of Decision To Be Made

An environmental impact statement (EIS) will be prepared that discloses the environmental consequences of implementing the proposed action and alternatives to the proposed action, including No Action. A separate Record of Decision (ROD) will explain the Responsible Official's decision regarding whether or not to implement some level of timber harvest and other proposed activities on all, part, or none of the area analyzed, given the consideration of multiple-use goals and objectives.

Scoping Process

This notice of intent initiates the scoping process, which guides the development of the environmental impact statement. The Forest invites public comment and participation in this project by publication of this notice. Comments are also invited by: publication in the quarterly Schedule of Proposed Actions (SOPA); public notice regarding this project in the newspaper of record, the Valley Courier; and letters to potentially interested individuals, tribal governments, elected officials, and State and other Federal Agencies. Information will also be posted on the Rio Grande National Forest project Web site as this project progresses. Comments received during these and other scoping efforts will be considered in this EIS. No scoping meetings are planned at this time.

Comments received in response to this solicitation, including names and addresses of those who comment, will be part of the public record for this proposed action. Comments submitted anonymously will be accepted and considered; however anonymous comments will not provide the Agency with the ability to provide the respondent with subsequent environmental documents.

Preliminary Issues

The effect of proposed activities on the habitat structural needs of the local population of Canada Lynx, a Threatened species, and their primary prey, the snowshoe hare.

Comment Requested

The comment period on the draft environmental impact statement will be 45 days from the date the Environmental Protection Agency publishes the notice of availability in the Federal Register.

The Forest Service believes, at this early state, it is important to give reviewers notice of several court rulings related to public participation in the environmental review process. First, reviewers of draft environmental impact statements must structure their participation in the environmental review of the proposal so that it is meaningful and alerts an agency to the reviewer's positions and contentions. Vermont Yankee Nuclear Power Corp. v. NRDC, 435 U.S. 519, 553 (1978). Also, environmental objections that could be raised at the draft environmental impact statement stage but that are not raised until after completion the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45 day comment period so that substantive comments and objections are made available to the Forest Service at a time when it can meaningfully consider them and respond to them in the final environmental impact statement

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Dated: February 24, 2016.
Andrea Jones,
District Ranger.

[FR Doc. 2016-04487 Filed 2-29-16; 8:45 am]

BILLING CODE 3410-11-P